DEPARTMENT OF HEALTH AND HUMAN SERVICES

Administration for Children and Families

[OMB No.: 0970-0426]

Submission for OMB Review; Comment Request; Child and Family Services Plan (CFSP), Annual Progress and Services Review (APSR), and Annual Budget Expenses Request and Estimated Expenditures (CFS-101)

Description: Under title IV-B, subparts 1 and 2, of the Social Security Act (the Act), States, Territories, and Tribes are required to submit a Child and Family Services Plan (CFSP). The CFSP lays the groundwork for a system of coordinated, integrated, and culturally relevant family services for the subsequent five years (45 CFR 1357.15(a)(1)). The CFSP outlines initiatives and activities the State, Territory, and Tribes will carry out in administering programs and services to promote the safety, permanency, and well-being of children and families, including, as applicable, those activities conducted under the John H. Chafee Foster Care Independence Program (Section 477 of the Act) and the State grant authorized by the Child Abuse Prevention and Treatment Act. By June 30 of each year, States, Territories, and Tribes are also required to submit an Annual Progress and Services Report (APSR) and a financial report called the CFS-101. The APSR is a yearly report that discusses progress made by a State, Territory or Tribe in accomplishing the goals and objectives cited in its CFSP (45 CFR 1357.16(a)). The APSR contains new and updated information about service needs and organizational capacities throughout the five-year plan period. The CFS-101 has three parts. Part I is an annual budget request for the upcoming fiscal year. Part II includes a summary of planned expenditures by program area for the upcoming fiscal year, the estimated number of individuals or families to be served, and the geographical service area. Part III includes actual expenditures by program area, numbers of families and individuals served by program area, and the geographic areas served for the last complete fiscal year.

Respondents: States, Territories, and Tribes must complete the CFSP, APSR, and CFS-101. States and Territories must also report data annually on caseworker visits with children in foster care. Tribes are exempted from the caseworker visits reporting requirement of the CFSP/APSR. There are approximately 189 Tribal entities that currently receive IV-B funding. There are 53 States (including Puerto Rico, the District of Columbia, and the U.S. Virgin Islands) that must complete the CFSP, APSR, and CFS-101. There are a total of 242 possible respondents.

Annual Burden Estimates
Instrument | Number of respondents | Number of responses per respondent | Average burden hours per response | Total burden hours
APSR | 242 | 1 | 80 | 19,360
CFSP | 48.4 | 1 | 120.25 | 5,820.10
CFS-101, Parts I, II, and III | 242 | 1 | 5 | 1,210
Caseworker Visits | 53 | 1 | 99.33 | 5,264.49

Estimated Total Annual Burden Hours: 31,654.59.

Additional Information: Copies of the proposed collection may be obtained by writing to the Administration for Children and Families, Office of Planning, Research and Evaluation, 330 C Street SW., Washington, DC 20201, Attn: Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2017-22519 Filed 10-17-17; 8:45 am]

BILLING CODE 4184-25-P